DEPARTMENT OF THE INTERIOR

National Park Service

[NPS-NER-ACAD-28995; PPNEACADSO, PPMPSPDIZ.YM0000]

Acadia National Park Advisory Commission Notice of Public Meetings

AGENCY: National Park Service, Interior.

ACTION: Meeting notice.

SUMMARY: In accordance with the Federal Advisory Committee Act of 1972, the National Park Service (NPS) is hereby giving notice that the Acadia National Park Advisory Commission (Commission) will meet as indicated below.

DATES: The Commission will meet: Monday, February 3, 2020; and Monday, June 1, 2020. All scheduled meetings will begin at 1:00 p.m. and will end by 4:00 p.m. (Eastern).

ADDRESSES: The February 3, 2020, and June 1, 2020, meetings will be held at the headquarters conference room, Acadia National Park, 20 McFarland Hill Drive, Bar Harbor, Maine 04609.

FOR FURTHER INFORMATION CONTACT: Michael Madell, Deputy Superintendent, Acadia National Park, P.O. Box 177, Bar Harbor, Maine 04609, telephone (207) 288-8701 or email michael_madell@nps.gov.

SUPPLEMENTARY INFORMATION: The Commission was established by section 103 of Public Law 99-420, as amended, (16 U.S.C. 341 note), and in accordance with the Federal Advisory Committee Act (5 U.S.C. Appendix 1-16). The Commission advises the Secretary and the NPS on matters relating to the management and development of Acadia National Park, including but not limited to, the acquisition of lands and interests in lands (including conservation easements on islands) and the termination of rights of use and occupancy.

The meeting is open to the public. Interested persons may choose to make a public comment at the meeting during the designated time for this purpose. Depending on the number of persons wishing to comment, the length of comments may be limited. Members of the public may also choose to submit written comments by sending them to Michael Madell (see FOR FURTHER INFORMATION CONTACT.)

The Commission meeting locations may change based on inclement weather or exceptional circumstances. If a meeting location is changed, the Superintendent will issue a press release and use local newspapers to announce the change.

Purpose of the Meeting: The Commission meeting will consist of the following proposed agenda items:

1. Committee Reports:

• Land Conservation

• Park Use

• Science and Education

• Historic

2. Old Business

3. Superintendent's Report

4. Chairman's Report

5. Public Comments

6. Adjournment

The final meeting agenda will be posted to the commission's website at: https://www.nps.gov/acad/getinvolved/acadia-advisory-commission.htm.

Public Disclosure of Information: Before including your address, phone number, email address, or other personal identifying information in your comments, you should be aware that your entire comment—including your personal identifying information—may be made publicly available at any time. While you can ask us in your comment to withhold your personal identifying information from public review, we cannot guarantee that we will be able to do so.

(Authority: 5 U.S.C. Appendix 2)

Alma Ripps,
Chief, Office of Policy.

[FR Doc. 2020-00791 Filed 1-17-20; 8:45 am]

BILLING CODE 4312-52-P